DEPARTMENT OF HEALTH AND HUMAN SERVICES

National Institutes of Health

Eunice Kennedy Shriver National Institute of Child Health & Human Development; Amended Notice of Meeting

Notice is hereby given of a change in the meeting of the National Institute of Child Health and Human Development Special Emphasis Panel, October 29, 2015, 01:00 p.m. to October 29, 2015 03:00 p.m., National Institutes of Health, 6100 Executive Boulevard, Rockville, MD 20852 which was published in the Federal Register on September 30, 2015, 2015-24821.

The meeting notice is being amended to clarify the meeting title: Non-or Minimally-Invasive Methods to Measure Biochemical Substances during Neonatal and Perinatal Patient Care and Research (R41). The meeting is closed to the public.

Dated: October 7, 2015.
Michelle Trout,
Program Analyst, Office of Federal Advisory Committee Policy.

[FR Doc. 2015-25996 Filed 10-13-15; 8:45 am]

BILLING CODE 4140-01-P